SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes new information collections, revisions to OMB-approved information collections, and extensions (no change) of OMB-approved information collections.

SSA is soliciting comments on the accuracy of the Agency's burden estimate; the need for the information; its practical utility; ways to enhance its quality, utility and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, e-mail address: OIRA_Submission@omb.eop.gov.

(SSA) Social Security Administration, DCBFM, Attn: Reports Clearance Officer, 1333 Annex Building, 6401 Security Blvd., Baltimore, MD 21235, Fax: 410-965-6400, e-mail address: OPLM.RCO@ssa.gov.

The information collections listed below are pending at SSA. SSA will submit them to OMB within 60 days from the date of this notice. Therefore, submit your comments to SSA within 60 days from the date of this publication. You can obtain copies of the collection instruments by calling the SSA Reports Clearance Officer at 410-965-0454 or by writing to the address listed above.

1. Authorization to Obtain Earnings Data from the Social Security Administration—0960-0602. A wage earner or an organization may request detailed earnings information from SSA. SSA collects the information on the SSA-581 to identify the earnings record, verify authorized access to the earnings record, and produce an itemized statement for release to the proper party. The respondents are various private/public organizations/agencies needing detailed earnings information.

Type of Request: Revision of an OMB-approved information collection.

Number of Respondents: 33,000.

Frequency of Response: 1.

Average Burden per Response: 2 minutes.

Estimated Annual Burden: 1,100 hours.

2. Statement Regarding the Inferred Death of an Individual by Reason of Continued and Unexplained Absence—20 CFR 404.720 & 404.721—0960-0002. Section 202(d)-(i) of the Social Security Act provides for the payment of various monthly survivor benefits and a lump sum death payment to certain survivors upon the death of an individual who dies fully or currently insured. In the event a person has been absent from his or her residence and has not been heard from for at least 7 years, SSA will presume he or she is deceased. SSA collects information on Form SSA-723-F4 to determine if SSA may presume a missing wage earner is deceased and, if so, to establish a date of presumed death. The respondents are persons having knowledge about the disappearance of a wage earner.

Type of Request: Extension of an OMB-approved information collection.

Number of Respondents: 3,000.

Frequency of Response: 1.

Average Burden per Response: 30 minutes.

Estimated Annual Burden: 1,500 hours.

3. Railroad Employment Questionnaire—20 CFR 404.1401, 404.1406-404.1408—0960-0078. SSA uses the data on the SSA-671 to secure sufficient information to effect the required coordination with the Railroad Retirement Board for Social Security claims processing. SSA obtains data whenever claimants give indications of employment in the railroad industry. The respondents are applicants for Social Security benefits employed by a railroad or dependents of railroad workers.

Type of Request: Extension of an OMB-approved information collection.

Number of Respondents: 125,000.

Frequency of Response: 1.

Average Burden per Response: 5 minutes.

Estimated Annual Burden: 10,417 hours.

4. Government Pension Questionnaire—20 CFR 404.408a—0960-0160. The Social Security Act and regulations provide an individual receiving spousal benefits and concurrently receiving a Government pension based on his or her own earnings not covered by Social Security may have the amount of the Social Security benefit reduced by two-thirds the amount of the Government pension. SSA uses the information on the SSA-3885 to determine whether the individual's Social Security benefit is subject to reduction, the amount of the reduction, the effective date of the reduction, and whether one of the exceptions in 20 CFR 404.408a applies. The respondents are individuals receiving spousal benefits and a Government pension.

Type of Request: Extension of an OMB-approved information collection.

Number of Respondents: 30,000.

Frequency of Response: 1.

Average Burden per Response: 12.5 minutes.

Estimated Annual Burden: 6,250 hours.

5. Teacher Questionnaire and Request for Administrative Information —20 CFR 416.1103(f)—0960-0646. SSA must consider all relevant evidence when determining a child's disability under Title XVI of the Social Security Act. When determining the effects of a child's (or other individual's) impairment(s), SSA must obtain information about the child's functioning. Using Forms SSA-5665 and SSA-5666, SSA obtains formal testing results, teacher reports, therapy progress notes, individualized education program information and other records of a child's educational aptitude and achievement. The respondents are parents, teachers and other education personnel.

Type of Request: Extension of an OMB-approved information collection.

Number of Respondents: 618,000.

Frequency of Response: 1.

Average Burden per Response: 45 minutes.

Estimated Annual Burden: 463,500 hours.

6. Statement of Income and Resources—20 CFR 416.207, 146.301—416.310, 416.704, and 416.708—0960-0124. SSA collects information about income and resources on form SSA-8010-BK in Supplemental Security Income (SSI) claims and redeterminations. SSA uses the information to make initial or continuing eligibility determinations for SSI claimants/recipients who are subject to deeming. The respondents are persons whose income and resources may be deemed (considered available) to applicants or beneficiaries of SSI benefits.

Type of Request: Extension of an OMB-approved information collection.

Number of Respondents: 341,000.

Frequency of Response: 1.

Average Burden per Response: 26 minutes.

Estimated Annual Burden: 147,767 hours.

7. Application for Supplemental Security Income—20 CFR 416.207 and 416.305—416.335, Subpart C—0960-0229. SSA has prescribed the Form SSA-8000 as the application for SSI payments. SSA uses the information gathered on the SSA-8000 to determine whether claimants meet all statutory and regulatory requirements for SSI eligibility and to determine the amount of such benefits. The respondents are applicants for SSI payments.

Type of Request: Extension of an OMB-approved information collection.

Number of Respondents: 1,281,620.

Frequency of Response: 1.

Average Burden per Response: 36 minutes.

Estimated Annual Burden: 768,972 hours.

8. Medicare Modernization Act Outreach Mailer—20 CFR 418—0960-NEW. To: (1) promote awareness of the Medicare Part D subsidy program; and (2) encourage potentially eligible Medicare beneficiaries to complete Form SSA-1020 (OMB No. 0960-0696, the Application for Help with Medicare Prescription Drug Plan Costs), SSA plans to use a new outreach brochure including a mailer. Pharmacies, doctors' offices, and medical clinics will display and distribute copies of the brochure incorporating a mailer to encourage eligible Medicare beneficiaries to request and complete Form SSA-1020. The brochure will include an insert beneficiaries complete to request Form SSA-1020 from SSA. SSA will make follow-up phone calls to beneficiaries who use the mailer to request an SSA-1020 but do not submit it to the Agency. The respondents are Medicare beneficiaries who: (1) are potentially eligible for Part D subsidy benefits; and (2) request a copy of Form SSA-1020 using the brochure insert.

Type of Request: New information collection.

| Number of respondents | Frequency of response | Average burden per response (minutes) | Estimated annual burden (hours)
Mailer Insert | 75,000 | 1 | 1 | 1,250
Follow-Up Phone Calls | 30,000 | 1 | 1 | 500
Totals | 105,000 |  |  | 1,750

Dated: March 19, 2008.
Elizabeth A. Davidson,
Reports Clearance Officer, Social Security Administration.

[FR Doc. E8-5983 Filed 3-25-08; 8:45 am]

BILLING CODE 4191-02-P